FEDERAL COMMUNICATIONS COMMISSION

[WT Docket No. 01-352; FCC 01-392]

Herbert L. Schoenbohm

AGENCY: Federal Communications Commission.

ACTION: Notice.

SUMMARY: In this document, the FCC starts a hearing proceeding regarding whether the application of Herbert L. Schoenbohm for a new Amateur Radio Service Station License and Amateur Radio Service Operator License should be granted. The hearing gives the Commission an opportunity determine whether Mr. Schoenbohm, a convicted felon who the Commission previously deemed unqualified to hold such licenses, is currently qualified to do so.

FOR FURTHER INFORMATION CONTACT: Michael J. Wilhelm., Wireless Telecommunications Bureau, at (202) 418-0860.

SUPPLEMENTARY INFORMATION: This is a summary of the Federal Communications Commission's Hearing Designation Order, DA 01-392, adopted on December 31, 2001 and released on January 9, 2002. The full text is available for inspection and copying during normal business hours in the FCC Reference Center, Room CY-A257, 445 12th Street, SW, Washington, DC 20554. The complete text may be purchased from the Commission's copy contractor, Qualex International, 445 12th Street, SW, Room CY-B402, Washington, DC 20554. The full text may also be downloaded at: www.fcc.gov. Alternative formats are available to persons with disabilities by contacting Martha Contee at (202) 418-0260 or TTY (202) 418-2555.

1. By this Order, we commence a hearing proceeding before an FCC Administrative Law Judge to determine whether the applications of Herbert L. Schoenbohm for a new Amateur Radio Service Station License and new General Class Amateur Radio Service Operator License should be granted. Mr. Schoenbohm's former Amateur Radio Service Station License, call sign KV4FZ, and Amateur Radio Service Operator License were not renewed after it was determined, after an August 8, 1995, hearing before an administrative law judge, that Mr. Schoenbohm's previous criminal behavior, misrepresentation and lack of candor warranted denial of his renewal application. Mr. Schoenbohm is a convicted felon and was found to have misrepresented facts and lacked candor in his testimony in that hearing.

2. The facts leading to Mr. Schoenbohm's disqualification are res judicata; they have been thoroughly explored and the determination was made that, at the time of hearing, Mr. Schoenbohm was not qualified to be a Commission licensee. We may not revisit that determination here. However, in evaluating Mr. Schoenbohm's instant application, we must determine if, since the time of his disqualifying behavior in 1982-89 and 1995, Mr. Schoenbohm has been sufficiently rehabilitated that the Commission could be confident that he could be relied upon to observe our rules and policies and deal with the Commission in an honest and forthright manner. There are no facts now before us that would support a finding of rehabilitation. Hence, because we are unable to make a determination that grant of Mr. Schoenbohm's applications would serve the public interest, convenience, and necessity, we hereby designate the applications for hearing, as required by section 309(e) of the Communications Act of 1934, as amended.

A. Ordering Clauses

3. Pursuant to sections 4(i) and 309(e) of the Communications Act of 1934, as amended, 47 U.S.C. 154(i); 309(e), the above captioned applications are designated for hearing in a proceeding before an FCC Administrative Law Judge, at a time and place to be specified in a subsequent Order, upon the following issues:

a. To determine whether Herbert Schoenbohm possesses the requisite character qualifications to be a Commission licensee.

b. To determine in light of the evidence adduced under issue (a), whether the captioned applications should be granted.

4. Pursuant to section 4(i) of the Communications Act of 1934, as amended, and section 1.221(c) of our rules, in order to avail himself of the opportunity to be heard, Mr. Schoenbohm, in person or by his attorney, shall file with the Commission, within twenty days of the mailing of this Hearing Designation Order to him, a written appearance stating that he will appear on the date fixed for hearing and present evidence on the issue specified herein.

5. Pursuant to section 1.221(c) of our rules, if Mr. Schoenbohm fails to file a written appearance within the twenty-day period, or has not filed prior to the expiration of the twenty-day period a petition to dismiss without prejudice, or a petition to accept, for good cause shown, a written appearance beyond the expiration of the twenty-day period, the presiding Administrative Law Judge shall dismiss the captioned applications with prejudice for failure to prosecute.

6. Pursuant to sections 4(i) and 309(e) of the Communications Act of 1934, as amended, the burden of proceeding with the introduction of evidence and the burden of proof with respect to all of the issues specified above shall be on Mr. Schoenbohm.

7. The Commission's Reference Operations Division of the Consumer Information Bureau shall send a copy of this Order, via Certified Mail—Return Receipt Requested, to Herbert L. Schoenbohm, at the address shown in his captioned applications: Post Office Box 4419, Kingshill, Virgin Islands, 00851.

8. The Secretary of the Commission shall cause to have this Hearing Designation Order or a summary thereof published in the Federal Register.

Federal Communications Commission.
William F. Caton,
Acting Secretary.

[FR Doc. 02-2552 Filed 2-1-02; 8:45 am]

BILLING CODE 6712-01-P